FEDERAL COMMUNICATIONS COMMISSION

47 CFR Part 20

[WT Docket No. 10-254; DA 13-6]

Comment Deadline Extended for Updated Information and Comment on Review of Hearing Aid Compatibility Regulations

AGENCY: Federal Communications Commission.

ACTION: Proposed rule; extension of comment period.

SUMMARY: In this document, the Wireless Telecommunications Bureau (Bureau) extends the time within which to file comments on the Public Notice seeking updated information and comment on review of hearing aid compatibility regulations.

DATES: Comments are due on or before January 22, 2013.

ADDRESSES: You may submit comments, identified by WT Docket No. 10-254, by any of the following methods:

• Federal Communications Commission's Web Site: http://fjallfoss.fcc.gov/ecfs2/. Follow the instructions for submitting comments.

• Mail.

• People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: Jennifer Flynn, Spectrum & Competition Policy Division, Wireless Telecommunications Bureau, (202) 418-0612 or by email Jennifer.Flynn@fcc.gov.

SUPPLEMENTARY INFORMATION: This is a summary of the Commission's Order in WT Docket No. 10-254, DA 13-6, released January 3, 2013. The full text of the Order is available for public inspection and copying during business hours in the FCC's Reference Information Center, Portals II, 445 12th Street SW., Room CY-A257, Washington, DC 20554. Copies may be purchased from the Commission's duplicating contractor, Best Copy and Printing, Inc. (BCPI), 445 12th Street SW., Room CY-B402, Washington, DC 20554, 202-488-5300 or 800-378-3160 (voice), 202-488-5562 (TTY), 202-488-5563 (fax), or you may contact BCPI at its Web site: http://www.BCPIWEB.com. When ordering documents from BCPI, please provide the appropriate FCC document number, for example, DA 13-6. The Comment Deadline Extended for Updated Information and Comment Sought on Review of Hearing Aid Compatibility Regulations Public Notice is available on the Internet at the Commission's Web site at http://www.fcc.gov/document/hearing-aid-compatibility-review-additional-comments-sought and related documents are also available by using the search function for WT Docket No. 10-254 on the Commission's Electronic Comment Filing System (ECFS) Web page at http://apps.fcc.gov/ecfs/. To request information in accessible formats (computer diskettes, large print, audio recording, and Braille), send an email to fcc504@fcc.gov or call the FCC's Consumer and Governmental Affairs Bureau at 202-418-0530 (voice) or 202-418-0432 (TTY).

Summary

1. On November 27, 2012, the Wireless Telecommunications Bureau released a Public Notice in which it granted, on its own motion, an extension of time to file comments in its ongoing review of the wireless hearing aid compatibility rules (77 FR 72294, December 5, 2012). That Public Notice set the deadline for filing comments on January 7, 2013.

2. On December 31, 2012, the law firm of Blooston, Mordkofsky, Dickens, Duffy & Prendergast, LLP (BloostonLaw) filed a request to extend the comment deadline until January 22, 2013. BloostonLaw states that the extension will alleviate the “conflicting time demands” on counsel who must both file comments in this proceeding and prepare Form 655 reports that are due from service providers on January 15, 2013. BloostonLaw further states that the January 7th comment deadline will deprive the Commission and the public of the benefit of comments based on experiences encountered during the Form 655 reporting window.

3. The Commission does not routinely grant extensions of time, 47 CFR 1.46(a). However, given the proximity of the filing deadline to the end of the Form 655 filing window, the Wireless Telecommunications Bureau finds that an extension of time for filing comments is warranted.

Procedural Matters

Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

• Electronic Filers: Comments may be filed electronically using the Internet by accessing the ECFS: http://fjallfoss.fcc.gov/ecfs2/.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail (although we continue to experience delays in receiving U.S. Postal Service mail). All filings must be addressed to the Commission's Secretary, Office of the Secretary, Federal Communications Commission.

• All hand-delivered or messenger-delivered paper filings for the Commission's Secretary at 236 Massachusetts Avenue NE., Suite 110, Washington, DC 20002. The filing hours at this location are 8:00 a.m. to 7:00 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class mail, Express Mail, and Priority Mail should be addressed to 445 12th Street SW., Washington, DC 20554.

One copy of each pleading must be delivered electronically, by email or facsimile, or if delivered as paper copy, by hand or messenger delivery, by commercial overnight courier, or by first-class or overnight U.S. Postal Service mail (according to the procedures set forth above for paper filings), to the Commission's duplicating contractor, Best Copy and Printing, Inc., at FCC@BCPIWEB.COM or (202) 488-5563 (facsimile).

Federal Communications Commission.
Jane E. Jackson,
Associate Chief, Wireless Telecommunications Bureau.

[FR Doc. 2013-00552 Filed 1-11-13; 8:45 am]

BILLING CODE 6712-01-P